FEDERAL COMMUNICATIONS COMMISSION

47 CFR Part 73

[DA 04-738; MB Docket No. 03-57; RM-10565]

Radio Broadcasting Services; Fort Collins, Westcliffe & Wheat Ridge, CO

AGENCY: Federal Communications Commission.

ACTION: Final rule.

SUMMARY: In response to a Notice of Proposed Rulemaking, 68 FR 16750, April 7, 2003, this document grants a petition for rulemaking filed by Tsunami Communications, Inc., former licensee of Station KTCL, Fort Collins, Colorado, substituting Channel 227C0 for Channel 227C at Fort Collins, CO, and reallotment of Channel 227C0 to Wheat Ridge, CO, as a first local service, with the license modified to specify operation on Channel 227C0 at Wheat Ridge. Jacor Broadcasting of Colorado, Inc. is the current licensee of Station KTCL. To accommodate Channel 227C0 at Wheat Ridge, we shall also substitute Channel 249A for vacant Channel 227A at Westcliffe, CO. The coordinates for Channel 227C0 at Wheat Ridge are 39-40-18 and 105-07-32 and the coordinates for Channel 249A at Westcliffe are 38-03-21 and 105-30-02. The counterproposal filed by Meadowlark Group, Inc. has been dismissed. With this action this proceeding is terminated.

DATES: Effective May 3, 2004.

FOR FURTHER INFORMATION CONTACT: Kathleen Scheuerle, Media Bureau, (202) 418-2180.

SUPPLEMENTARY INFORMATION: This is a synopsis of the Commission's Report and Order, MB Docket No. No. 03-57, adopted March 17, 2004, and released March 19, 2004. The full text of this Commission decision is available for inspection and copying during normal business hours in the FCC Reference Center (Room 239), 445 12th Street, SW., Washington, DC. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Colorado, is amended by removing Channel 227C at Fort Collins and adding Wheat Ridge, Channel 227C0 and by removing Channel 227A and adding Channel 249A at Westcliffe.

Federal Communications Commission.
John A. Karousos,
Assistant Chief, Audio Division, Media Bureau.

[FR Doc. 04-7370 Filed 3-31-04; 8:45 am]

BILLING CODE 6712-01-P